NATIONAL SCIENCE FOUNDATION

Agency Information Collection Activities: Comment Request

AGENCY: National Science Foundation.

ACTION: Submission for OMB Review; Comment request.

SUMMARY: The National Science Foundation (NSF) has submitted the following information collection requirement to OMB for review and clearance under the Paperwork Reduction Act of 1995, Public Law 104-13. This is the second notice for public comment; the first was published in the Federal Register at 71 FR 20141, and two comments were received. NSF is forwarding the proposed renewal submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity oft he information to be collected; or (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Suzanne Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

FOR FURTHER INFORMATION CONTACT: Catherine Hines at (703) 292-7556 or send e-mail to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

SUPPLEMENTARY INFORMATION: Comment: On April 19, 2006, we published in the Federal Register (71 FR 20141) a 60-day notice of our intent to request renewal of this information collection authority from OMB. In that notice, we solicited public comments for 60 days. Two comments were received from the public notice. The first comment came from Dr. Michael A. Gibson, The University of Tennessee at Martin, Martin, TN on 24 April 2006. Dr. Gibson requested for his university to partake in the survey, as they have a paleontological collection from past NSF support.

Response: NSF noted this request and confirmed that the University of Tennessee at Martin was included on our list of eligible institutions.

Comment: The second comment came from Ellen Paul, The Ornithological Council, Chevy Chase, MD on 6 June 2006. Ms. Paul requested a copy of the survey to address the anticipated burden. On 8 June 2006, the NSF sent Ms. Paul an electronic copy of the IWGSC Scientific Collections survey. On 16 June 2006, NSF received comments regarding the survey from Ms. Paul.

Response: We responded to her concerns, noting that we had received and incorporated input from the scientific community through correspondence during NSF panel meetings (which are populated from scientists representing a plethora of institutions) and scientific professional society conferences during the creation of the survey, and that the issues regarding ambiguity in language used in the survey are addressed in the “FAQ” section of the website. After extensive phone and email correspondences, it was determined Ms. Paul's concerns originated from distress about a new National Park Service policy regarding scientific collections. As that program is unrelated to our survey collection and her concerns of unclearly defined terms used in the survey are addressed in the FAQ section of the survey instrument, the NSF is moving forward with the clearance request.

Title of Collection: “Scientific Collections Survey.”

OMB Approval Number: 3145-NEW.

Type of Request: Intent to seek approval to establish an information collection for three years

Proposed Project: The Office of Science and Technology Policy (OSTP) has requested an assessment of information regarding all object-based scientific collections maintained or financially supported by the Federal government or used in research supported by the Federal government, and ancillary materials directly related to them. The Interagency Working Group on Scientific Collections (IWGSC), established in September 2005 by the Committee on Science of the National Science and Technology Council, is working with the IDA Science and Technology Policy Institute (STPI) to collect the information through an online survey. As part of the IWGSC, the National Science Foundation (NSF) has agreed to survey institutions with object-based scientific collections that receive support from the NSF or that are used by researchers that receive support form the NSF.

Estimate of Burden: The Foundation estimates that, on average, 40 minutes per respondent will be required to complete the survey, for a total of 400 hours for all respondents. Respondents from the approximately 730 institutions that receive NSF support for object-based collections, or whose object-based collections are used by researchers that receive NSF support, will complete this survey once.

Respondents: Not-for-profits.

Estimated Number of Responses: 730.

Estimated Total Annual Burden on Respondents: 5353 hours.

Dated: July 24, 2006.
Suzanne H. Plimpton,
Reports Clearance Officer, National Science Foundation.

[FR Doc. 06-6514 Filed 7-26-06; 8:45 am]

BILLING CODE 7555-01-M